ENVIRONMENTAL PROTECTION AGENCY

[OPP-2005-0087; FRL-8003-1]

Agency Information Collection Activities; Submission to OMB for Review and Approval; Comment Request; Foreign Purchaser Acknowledgment Statement of Unregistered Pesticides, EPA ICR Number 0161.10, OMB Control Number 2070-0027

AGENCY: Environmental Protection Agency (EPA).

ACTION: Notice.

SUMMARY: In compliance with the Paperwork Reduction Act (44 U.S.C. 3501 et seq.), this document announces the submission of an Information Collection Request (ICR) to the Office of Management and Budget (OMB) for review and approval and provides an additional public review and comment opportunity. This is a request to renew an existing approved collection that is scheduled to expire on January 31, 2006. Under OMB regulations, the Agency may continue to conduct or sponsor the collection of information while this submission is pending at OMB. The ICR describes the nature of the information collection and its estimated burden and cost.

DATES: Additional comments may be submitted on or before December 28, 2005.

ADDRESSES: Submit your comments, referencing docket ID number OPP-2005-0087, to (1) EPA online using EDOCKET (our preferred method), by e-mail to http://www.epa.gov/edocket, or by mail to: EPA Docket Center, Environmental Protection Agency, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Nathanael R. Martin, Field and External Affairs Division, Office of Pesticide Programs, 7506C, Environmental Protection Agency, 1200 Pennsylvania Ave., NW., Washington, DC 20460; telephone number: 703-305-6475; fax number: 703-305-5884; e-mail address: martin.nathanael@epa.gov.

SUPPLEMENTARY INFORMATION: EPA has submitted the following ICR to OMB for review and approval according to the procedures prescribed in 5 CFR 1320.12. On April 20, 2005, (70 FR 20540), EPA sought comments on this ICR pursuant to 5 CFR 1320.8(d). EPA received one comment which is addressed in the supporting statement.

EPA has established a public docket for this ICR under Docket ID No. OPP-2005-0087, which is available for viewing online at http://www.epa.gov/edocket, or in person at the Public Information and Records Integrity Branch, Office of Pesticide Programs Docket, Rm. 119, Crystal Mall #2, 1801 S. Bell St., Arlington, VA. This docket facility is open from 8:30 a.m. to 4 p.m., Monday through Friday, excluding legal holidays. The docket telephone number is (703) 305-5805. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket go to www.epa.gov/edocket.

Title: Foreign Purchaser Acknowledgment Statement of Unregistered Pesticides.

ICR Numbers: EPA ICR Number 0161.10, OMB Control Number 2070-0027.

Abstract: This information collection program is designed to enable EPA to provide notice to foreign purchasers of unregistered pesticides exported from the United States that the pesticide product cannot be sold in the United States. Section 17(a)(2) of the Federal Insecticide, Fungicide, and Rodenticide Act (FIFRA) requires an exporter of any pesticide not registered under FIFRA section 3 or sold under FIFRA section 6(a)(1) to obtain a signed statement from the foreign purchaser acknowledging that the purchaser is aware that the pesticide is not registered for use in, and cannot be sold in, the United States. A copy of this statement must be transmitted to an appropriate official of the government in the importing country. The purpose of the purchaser acknowledgment statement requirement is to notify the government of the importing country that a pesticide judged hazardous to human health or the environment, or for which no such hazard assessment has been made, will be imported into that country. This information is submitted in the form of annual or per-shipment statements to EPA, which maintains original records and transmits copies thereof to appropriate government officials of the countries which are importing the pesticide.

Burden Statement: Under the PRA, “burden” means the total time, effort, or financial resources expended by persons to generate, maintain, retain, or disclose or provide information to or for a Federal Agency. For this collection it includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The ICR provides a detailed explanation of this estimate, which is only briefly summarized in this notice. The annual public burden for this ICR is estimated to be 24,700. The following is a summary of the estimates taken from the ICR:

Respondents/Affected Entities: All exporters of unregistered pesticides.

Estimated Number of Respondents: 2,500.

Frequency of Response: Annual or per-shipment.

Estimated Total Annual Hour Burden: 24,700.

Estimated Total Annual Burden Cost: $2,134,400.

Changes in the Estimates: The total annual respondent burden cost for this ICR is estimated to be $2,134,400, an increase of $232,000 over the present ICR. This slight increase in respondent burden cost is due to adjustments in labor rates.

Dated: October 3, 2005.
Oscar Morales,
Director, Collection Strategies Division.

[FR Doc. E5-6589 Filed 11-25-05; 8:45 am]

BILLING CODE 6560-50-P